DEPARTMENT OF HEALTH AND HUMAN SERVICES

National Institutes of Health

Center for Scientific Review; Amended Notice of Meeting

Notice is hereby given of a change in the meeting of the Center for Scientific Review Special Emphasis Panel Small Business: The Cancer Biotherapeutics Development (CBD), June 12-13, 2023, to July 17-18, 2023, National Institutes of Health, 6701 Rockledge Drive Bethesda, MD 20892, which was published in the Federal Register on May 01, 2023, 88 FR 26581 Doc 2023-09094.

This meeting is being amended to change the meeting date from June 12-13, 2023, to July 17-18, 2023. The meeting is closed to the public.

Dated: May 4, 2023.
David W. Freeman,
Program Analyst, Office of Federal Advisory Committee Policy.

[FR Doc. 2023-09865 Filed 5-8-23; 8:45 am]

BILLING CODE 4140-01-P